DEPARTMENT OF ENERGY

Federal Energy Regulatory Commission

Combined Notice of Filings #1

January 4, 2011.

Take notice that the Commission received the following electric rate filings:

Docket Numbers: ER03-327-009; ER08-447-007; ER08-448-007; ER97-837-014; ER99-3151-017.

Applicants: PSEG Energy Resources & Trade LLC, Public Service Electric and Gas Company, PSEG Power Connecticut LLC; PSEG Fossil LLC; PSEG Nuclear LLC.

Description: PSEG Services Corporation submits their market power analysis in support of their continued eligibility to engage in market-based rates transactions.

Filed Date: 12/30/2010.

Accession Number: 20110103-0205.

Comment Date: 5 p.m. Eastern Time on Monday, February 28, 2011.

Docket Numbers: ER03-1340-007; ER05-41-004; ER07-357-008; ER08-1237-004; ER08-1288-007; ER09-1181-003; ER10-2198-002.

Applicants: Fenton Power Partners I, LLC, Wapsipinicon Wind Project, LLC, Shiloh Wind Project 2, LLC, Hoosier Wind Project, LLC, Oasis Power Partners, LLC, Chanarambie Power Partners, LLC, Lakefield Wind Project, LLC.

Description: Notice of Non-Material Change in Status of Chanarambie Power, et al.

Filed Date: 01/03/2011.

Accession Number: 20110103-5243.

Comment Date: 5 p.m. Eastern Time on Monday, January 24, 2011.

Docket Numbers: ER05-1232-034.

Applicants: J.P. Morgan Ventures Energy Corporation.

Description: JP Morgan Ventures Energy Corp submits an Updated Market Power Analysis—Order No. 697 Compliance Filing (Part 1 of 2).

Filed Date: 01/03/2011.

Accession Number: 20110103-5244.

Comment Date: 5 p.m. Eastern Time on Friday, March 4, 2011.

Docket Numbers: ER05-1232-034.

Applicants: J.P. Morgan Ventures Energy Corporation.

Description: Updated Mkt Power Analysis—Order 697 Compliance Filing (Part 2 of 2).

Filed Date: 01/03/2011.

Accession Number: 20110103-5252.

Comment Date: 5 p.m. Eastern Time on Friday, March 4, 2011.

Docket Numbers: ER08-836-002; ER10-3049-001; ER10-3051-001.

Applicants: Champion Energy Marketing LLC, Champion Energy Services, LLC, Champion Energy, LLC.

Description: Notice of Change in Status of Champion Energy Marketing LLC, et al.

Filed Date: 01/03/2011.

Accession Number: 20110103-5247.

Comment Date: 5 p.m. Eastern Time on Monday, January 24, 2011.

Docket Numbers: ER10-2988-002.

Applicants: Thompson River Power, LLC.

Description: Thompson River Power, LLC submits tariff filing per 35: Thompson River—Tariff Amendment—seller category provision to be effective 2/28/2011.

Filed Date: 12/30/2010.

Accession Number: 20101230-5191.

Comment Date: 5 p.m. Eastern Time on Thursday, January 20, 2011.

Docket Numbers: ER10-3349-000.

Applicants: Oklahoma Gas and Electric Company.

Description: Oklahoma Gas and Electric Company submits tariff filing per 35.1: Cost Base Formula Rate Agreement to be effective 3/1/2011.

Filed Date: 01/03/2011.

Accession Number: 20110103-5000.

Comment Date: 5 p.m. Eastern Time on Monday, January 24, 2011.

Docket Numbers: ER10-3350-000.

Applicants: Carolina Power & Light Company.

Description: Carolina Power & Light Company submits tariff filing per 35: Order No. 676E Compliance filing of Carolina Power and Light Company, to be effective 4/1/2011.

Filed Date: 01/03/2011.

Accession Number: 20110103-5001.

Comment Date: 5 p.m. Eastern Time on Monday, January 24, 2011.

Docket Numbers: ER10-3351-000.

Applicants: Florida Power Corporation.

Description: Florida Power Corporation submits tariff filing per 35: Order No. 676E Compliance Filing of Florida Power Corporation to be effective 4/1/2011.

Filed Date: 01/03/2011.

Accession Number: 20110103-5002.

Comment Date: 5 p.m. Eastern Time on Monday, January 24, 2011.

Docket Numbers: ER10-3352-000.

Applicants: Tucson Electric Power Company.

Description: Tucson Electric Power Company submits tariff filing per 35: OATT Order No. 676-E Compliance Filing, to be effective 4/1/2011.

Filed Date: 01/03/2011.

Accession Number: 20110103-5003.

Comment Date: 5 p.m. Eastern Time on Monday, January 24, 2011.

Docket Numbers: ER10-3353-000.

Applicants: Black Hills/Colorado Electric Utility Company, LP.

Description: Black Hills/Colorado Electric Utility Company, LP submits tariff filing per 35.13(a)(2)(iii: Black Hills/Colorado Electric Utility Company, LP, Attachment and Section 4 to be effective 4/1/2011.

Filed Date: 01/03/2011.

Accession Number: 20110103-5005.

Comment Date: 5 p.m. Eastern Time on Monday, January 24, 2011.

Docket Numbers: ER10-3354-000.

Applicants: Black Hills Power, Inc.

Description: Black Hills Power, Inc. submits tariff filing per 35.13(a)(2)(iii: Black Hills Power, Inc., Attachment and Section 4 to be effective 4/1/2011.

Filed Date: 01/03/2011.

Accession Number: 20110103-5006.

Comment Date: 5 p.m. Eastern Time on Monday, January 24, 2011.

Docket Numbers: ER10-3355-000.

Applicants: Entergy Arkansas, Inc.

Description: Entergy Arkansas, Inc. submits tariff filing per 35.13(a)(2)(iii: Conway Revised Service Agreements to be effective 1/1/2011.

Filed Date: 01/03/2011.

Accession Number: 20110103-5009.

Comment Date: 5 p.m. Eastern Time on Monday, January 24, 2011.

Docket Numbers: ER10-3356-000.

Applicants: Entergy Arkansas, Inc.

Description: Entergy Arkansas, Inc. submits tariff filing per 35.13(a)(2)(iii: West Memphis Revised Agreements to be effective 1/1/2011.

Filed Date: 01/03/2011.

Accession Number: 20110103-5010.

Comment Date: 5 p.m. Eastern Time on Monday, January 24, 2011.

Docket Numbers: ER10-3357-000.

Applicants: Entergy Arkansas, Inc.

Description: Entergy Arkansas, Inc. submits tariff filing per 35.13(a)(2)(iii: Attachment C-729 and 676-E Filing to be effective 4/1/2011.

Filed Date: 01/03/2011.

Accession Number: 20110103-5011.

Comment Date: 5 p.m. Eastern Time on Monday, January 24, 2011.

Docket Numbers: ER10-1017-002; ER10-1020-002; ER10-1048-003; ER10-1078-002; ER10-1079-002; ER10-1080-002; ER10-1081-002; ER10-1143-002; ER10-1145-002; ER11-2005-002; ER11-2007-001; ER11-2009-002; ER11-2010-002; ER11-2011-002; ER11-2013-002; ER11-2014-002; ER11-2016-001.

Applicants: Exelon Energy Company; Exelon Framingham, LLC; Commonwealth Edison Company; Exelon New Boston, LLC; Exelon New England Power Marketing, Limited; Exelon West Medway, LLC; Exelon Wyman, LLC; PECO Energy Company; Exelon Generation Company, LLC; Wind Capital Holdings, LLC; Tuana Springs Energy, LLC; Michigan Wind 1, LLC; J.D. Wind 4, LLC; Harvest Windfarm, LLC; CR Clearing, LLC; Cow Branch Wind Power, LLC; Cassia Gulch Wind Park, LLC.

Description: Triennial Market Power Update for the Northeast Region of the Exelon MBR Companies.

Filed Date: 12/30/2010.

Accession Number: 20101230-5175.

Comment Date: 5 p.m. Eastern Time on Monday, February 28, 2011.

Docket Numbers: ER10-1671-001; ER10-1702-001; ER10-1713-001; ER10-1726-001; ER10-1727-001; ER10-1828-001; ER10-1829-001; ER10-1830-001; ER10-1831-001; ER10-1832-001; ER10-1833-001; ER10-1834-001; ER10-1835-001; ER10-1869-001; ER10-2144-001; ER10-3143-001.

Applicants: Sabine Cogen, LP, GenOn Bowline, LLC, GenOn Canal, LLC, GenOn Delta, LLC, GenOn Kendall, LLC, GenOn Potrero, LLC, Genon Power Midwest, LP, GenOn REMA, LLC, GenOn Energy Management, LLC, GenOn Chalk Point, LLC, GenOn Mid-Atlantic, LLC, GenOn Potomac River, LLC, GenOn Florida, LP, GenOn West, LP, GenOn Wholesale Generation, LP, RRI Energy Services, LLC.

Description: Notification of Change in Status of GenOn Bowline, LLC, et al.

Filed Date: 01/03/2011.

Accession Number: 20110103-5248.

Comment Date: 5 p.m. Eastern Time on Monday, January 24, 2011.

Docket Numbers: ER10-1877-001; ER10-1942-002; ER10-2042-002.

Applicants: Calpine Energy Services, L.P., Hermiston Power, LLC, Calpine Construction Finance Co., L.P.

Description: Updated Market Power Analysis of Calpine Energy Services, L.P., et al.

Filed Date: 01/03/2011.

Accession Number: 20110103-5246.

Comment Date: 5 p.m. Eastern Time on Friday, March 4, 2011.

Docket Numbers: ER10-2179-002; ER10-2181-002; ER10-2182-002.

Applicants: R.E. Ginna Nuclear Power Plant, LLC, Nine Mile Point Nuclear Station, LLC, Calvert Cliffs Nuclear Power Plant LLC.

Description: Notice of Non-Material Change in Status of Calvert Cliffs Nuclear Power Plant LLC, et al.

Filed Date: 01/03/2011.

Accession Number: 20110103-5254.

Comment Date: 5 p.m. Eastern Time on Monday, January 24, 2011.

Docket Numbers: ER10-2794-001; ER10-1424-002; ER10-1425-002.

Applicants: EDF Industrial Power Services (IL), LLC, EDF Industrial Power Services (NY), LLC, EDF Trading North America, LLC, Eagle Industrial Power Services (IL), LL.

Description: Notice of Non-Material Change in Status of EDF Trading North America, LLC, et al.

Filed Date: 01/03/2011.

Accession Number: 20110103-5250.

Comment Date: 5 p.m. Eastern Time on Monday, January 24, 2011.

Docket Numbers: ER11-2590-000.

Applicants: El Cap II, LLC.

Description: El Cap II, LLC submits a notice of cancellation.

Filed Date: 12/29/2010.

Accession Number: 20101229-0011.

Comment Date: 5 p.m. Eastern Time on Wednesday, January 19, 2011.

Docket Numbers: ER11-2599-001; ER11-2603-001; ER11-2606-001.

Applicants: BIV Generation Company, L.L.C., Colorado Power Partners, Rocky Mountain Power, LLC.

Description: Notice of Category 1 Seller Status of BIV Generation Company, L.L.C., et al.

Filed Date: 01/03/2011.

Accession Number: 20110103-5245.

Comment Date: 5 p.m. Eastern Time on Monday, January 24, 2011.

Docket Numbers: ER11-2609-000.

Applicants: Tenaska Washington Partners, L.P.

Description: Tenaska Washington Partners, L.P. submits tariff filing per 35.37: Tenaska Washington Partners, L.P. Request for Category 1 Status to be effective 3/4/2011.

Filed Date: 01/03/2011.

Accession Number: 20110103-5214.

Comment Date: 5 p.m. Eastern Time on Monday, January 24, 2011.

Docket Numbers: ER11-2610-000.

Applicants: Tenaska Power Services Co.

Description: Tenaska Power Services Co. submits tariff filing per 35.37: Tenaska Power Services Co. Request for Category 1 Status to be effective 3/4/2011.

Filed Date: 01/03/2011.

Accession Number: 20110103-5220.

Comment Date: 5 p.m. Eastern Time on Monday, January 24, 2011.

Docket Numbers: ER11-2611-000.

Applicants: GenOn Potrero, LLC.

Description: GenOn Potrero, LLC submits tariff filing per 35.13(a)(2)(iii: Notice of Succession—2011 RMR Agreement to be effective 1/1/2011.

Filed Date: 01/03/2011.

Accession Number: 20110103-5224.

Comment Date: 5 p.m. Eastern Time on Monday, January 24, 2011.

Docket Numbers: ER11-2612-000.

Applicants: MXenergy Electric Inc.

Description: MXenergy Electric Inc. submits tariff filing per 35.13(a)(2)(iii: Revised Seller Request to be effective 3/4/2011.

Filed Date: 01/03/2011.

Accession Number: 20110103-5231.

Comment Date: 5 p.m. Eastern Time on Monday, January 24, 2011.

Docket Numbers: ER11-2613-000.

Applicants: GenOn Potrero, LLC.

Description: Notice of Succession of GenOn Potrero, LLC.

Filed Date: 01/03/2011.

Accession Number: 20110103-5241.

Comment Date: 5 p.m. Eastern Time on Monday, January 24, 2011.

Docket Numbers: ER11-2616-000.

Applicants: UNS Electric, Inc.

Description: UNS Electric, Inc. submits tariff filing per 35: OATT Order No. 676-E Compliance Filing to be effective 4/1/2011.

Filed Date: 01/04/2011.

Accession Number: 20110104-5032.

Comment Date: 5 p.m. Eastern Time on Tuesday, January 25, 2011.

Docket Numbers: ER11-2617-000.

Applicants: ISO New England Inc., New England Power Pool Participants Committee.

Description: ISO New England Inc. submits tariff filing per 35.13(a)(2)(iii: PTO Schedule 20A and Attachment C Revisions to be effective 4/1/2011 under ER11-2617-000 Filing Type: 10

Filed Date: 01/04/2011.

Accession Number: 20110104-5062.

Comment Date: 5 p.m. Eastern Time on Tuesday, January 25, 2011.

Docket Numbers: ER11-2618-000.

Applicants: Front Range Power Company, L.L.C.

Description: Request for Waiver of Front Range Power Company, L.L.C.

Filed Date: 01/03/2011.

Accession Number: 20110103-5253.

Comment Date: 5 p.m. Eastern Time on Monday, January 24, 2011.

Take notice that the Commission received the following electric reliability filings:

Docket Numbers: RR06-1-026.

Applicants: North American Electric Reliability Corporation.

Description: Report of the North American Electric Reliability Corporation and Western Electricity Coordinating Council in Response to August 29, 2009 Commission Order.

Filed Date: 12/23/2010.

Accession Number: 20101223-5174.

Comment Date: 5 p.m. Eastern Time on Thursday, January 13, 2011.

Docket Numbers: RR10-1-004.

Applicants: North American Electric Reliability Corporation.

Description: Compliance Filing of the North American Electric Reliability Corporation in Response to October 1, 2010 Commission Order Concerning Appendix 4D to the NERC Rules of Procedure—Procedure for Requesting and Receiving Technical Feasibility Exceptions.

Filed Date: 12/23/2010.

Accession Number: 20101223-5171.

Comment Date: 5 p.m. Eastern Time on Friday, January 14, 2011.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov or call (866) 208-3676 (toll free). For TTY, call (202) 502-8659.

Nathaniel J. Davis, Sr.,
Deputy Secretary.

[FR Doc. 2011-898 Filed 1-14-11; 8:45 am]

BILLING CODE 6717-01-P